DEPARTMENT OF HEALTH AND HUMAN SERVICES

Centers for Disease Control and Prevention

[60Day-05AS]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call (404) 371-5973 or send comments to Seleda Perryman, CDC Assistant Reports Clearance Officer, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

2005 Lead Disclosure Rule Public Awareness Survey—New—National Center for Environmental Health (NCEH), Centers for Disease Control and Prevention (CDC).

The proposed 2005 Lead Disclosure Rule Public Awareness Survey will assess small and medium-sized rental property owners' self-reported awareness of and compliance with the Lead Disclosure Rule. The Lead Disclosure Rule requires property owners to disclose to prospective tenants and buyers the presence of lead paint and lead-based paint hazards in residential properties built before 1978, if known by the owners. The rule was published under the authority of Title X of the Housing and Community Development Act of 1992 by the Department of Housing and Urban Development (HUD) at 24 CFR 35, subpart A, and by the Environmental Protection Agency (EPA) at 40 CFR 745, subpart F.

Childhood lead poisoning, while on the decline, remains a threat to the health and well-being of young children across the United States. In accordance with the Healthy People 2010 goal to “eliminate elevated blood lead levels in children,” there is a need for primary prevention of childhood lead poisoning. Primary prevention is the removal of lead hazards from a child's environment before the child is exposed. Ensuring compliance with the Lead Disclosure Rule is one component of a primary prevention strategy.

The U.S. Department of Justice, HUD, and EPA, in partnership with local health, housing, and law enforcement agencies have completed more than 34 enforcement settlements under the Lead Disclosure Rule. As a result, they have obtained commitments from property owners to test and abate lead-based paint hazards in their high-risk rental housing units. HUD has requested the assistance of the Lead Poisoning Prevention Branch at CDC to design and implement an evaluation of their enforcement efforts.

As part of this evaluation effort, CDC is interested in the perception of the Lead Disclosure Rule by sectors of the property owner population that have been targeted less often for enforcement of the rule. This survey of small and medium-sized rental property owners (owning fewer than 50 rental units) will be the first effort of its kind to capture this particular population's self-reported awareness of and compliance with the Lead Disclosure Rule.

The survey will be administered in four U.S. cities during 2005 and 2006. Two of the cities will be involved in a compliance assistance and enforcement intervention by HUD. The other two cities will be control cities (without such an intervention). For all four cities, CDC will conduct a cross-sectional “before and after” study design, but utilizing different respondents. Therefore, each respondent will be surveyed only once. Participation is voluntary. Respondents will be asked to complete a brief written survey and return the survey anonymously via the addressed, stamped envelope CDC will provide. There is no cost to respondents except the time to complete the survey.

Annualized Burden Table
Respondents | Number of respondents | Number of responses per respondent | Average burden per response (in hours.) | Total burden (in hrs.)
Targeted Property Owners | 1000 | 1 | 15/60 | 250
Total |  |  |  | 250

Dated: December 21, 2004.
B. Kathy Skipper,
Acting Director, Management Analysis and Services Office, Centers for Disease Control and Prevention.

[FR Doc. 04-28612 Filed 12-29-04; 8:45 am]

BILLING CODE 4163-18-P